DEPARTMENT OF THE INTERIOR

National Park Service

National Register of Historic Places; Notification of Pending Nominations and Related Actions

Nominations for the following properties being considered for listing or related actions in the National Register were received by the National Park Service before May 5, 2007.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by June 5, 2007.

J. Paul Loether,
Chief, National Register of Historic Places/National, Historic Landmarks Program.

IDAHO

Idaho County

Elfers, Jurden Henry, Barn and Field, John Day Creek, Lucile, 07000544

LOUISIANA

Acadia Parish

Istre Cemetery Grave Houses, Swift Rd., Morse, 07000545

MASSACHUSETTS

Middlesex County

Shawsheen Cemetery, Great Rd. and Shawsheen Rd., Bedford, 07000547

Norfolk County

Wellesley Hills Branch Library, 210 Washington St., Wellesley, 07000546

MISSOURI

Cole County

Sommerer, John M. and Lillian, House, 2023 W. Main St., Jefferson City, 07000548

St. Louis Independent city

Waterman Place—Kingsbury Place—Washington Terrace Historic District, Bounded by Union Blvd., alley S of Waterman Place, Belt Ave., alley S of Kingsbury Place, Clara Ave., alley line bet, St. Louis (Independent City), 07000549

NEVADA

Elko County

Lamoille Organization Camp, Right Fork of Lamoille Creek, end of FS Rd. 122, Ruby Mountains Ranger District Humboldt—Toiyabe National Forest, Lamoille, 07000553

NEW HAMPSHIRE

Belknap County

Rowe, Benjamin, House, 88 Belknap Mountain Rd., Gilford, 07000552

Carroll County

Wakefield Town Hall and Opera House, 2 High St., Wakefield, 07000550

Hillsborough County

Bedford Presbyterian Church, 4 Church Rd., Bedford, 07000554

Temple Town Hall, Main St., jct. of NH 45 and Gen. Miller Hwy., Temple, 07000551

NORTH CAROLINA

Wake County

Midway Plantation House and Outbuildings, (Wake County MPS) 1625 Old Crews Rd., Knightdale, 07000543

OREGON

Yamhill County

J.C. Penney Building, 516 E. First St., Newberg, 07000555

WISCONSIN

Marquette County

Vaughn's Hall and Blacksmith Shop, 55 W. Mentello St., Montello, 07000556

A request for removal has been made for the following resource:

NORTH CAROLINA

Wake County

Midway Plantation E of Raleigh on U.S. 64 Raleigh vicinity, 70000473

[FR Doc. E7-9652 Filed 5-18-07; 8:45 am]

BILLING CODE 4312-51-P